FEDERAL MARITIME COMMISSION

Ocean Transportation Intermediary License Reissuances

The Commission gives notice that the following Ocean Transportation Intermediary licenses have been reissued pursuant to section 19 of the Shipping Act of 1984 (46 U.S.C. 40101).

License No.: 001593F.

Name: Robertson Forwarding Co., Inc.

Address: 7166 NW 12th Street, Miami, FL 33126.

Date Reissued: February 7, 2014.

License No.: 019187N.

Name: Caribbean Logistic & Marketing Services, Inc.

Address: El Naranjal D-5 Calle 3, Toa Baja, Puerto Rico 00949.

Date Reissued: February 27, 2014.

License No.: 021288F.

Name: Shipping Logistics, LLC.

Address: 3340-C Greens Road, Suite 200, Houston, TX 77032.

Date Reissued: February 25, 2014.

License No.: 022216N.

Name: Sun US Transport Corp.

Address: 6449 Whittier Blvd., Los Angeles, CA 90022.

Date Reissued: February 9, 2014.

Sandra L. Kusumoto,
Director, Bureau of Certification and Licensing.

[FR Doc. 2014-07403 Filed 4-2-14; 8:45 am]

BILLING CODE 6730-01-P